COMMITTEE FOR PURCHASE FROM PEOPLE WHO ARE BLIND OR SEVERELY DISABLED

Reversal of Suspension

In the document appearing on page 15287, FR Doc. 05-5961, in the issue of March 25, 2005, in the first column, the Committee published an effective date of April 24, 2005, for addition of the Base Supply Center & Individual Equipment Element, Hill Air Force Base, Utah to the Procurement List. In the document appearing on page 17970, FR Doc. E5-1623, in the issue of April 8, 2005, in the first column, the Committee published the suspension of the effective date of April 24, 2005, for addition of the Base Supply Center & Individual Equipment Element, Hill Air Force Base, Utah to the Procurement List. This effective date was suspended until further notice. The Committee has decided to reinstate the original effective date. Accordingly, this Procurement List addition will be effective on April 24, 2005.

Sheryl D. Kennerly,
Director, Information Management.

[FR Doc. E5-1923 Filed 4-21-05; 8:45 am]

BILLING CODE 6353-01-P